DEPARTMENT OF LABOR

Employment and Training Administration

[TA-W-65,525]

Broan-Nutone Company, Hartford, WI; Notice of Termination of Investigation

Pursuant to Section 221 of the Trade Act of 1974, as amended, an investigation was initiated on March 9, 2009 in response to a worker petition filed by a Wisconsin state agency representative on behalf of workers of Broan-Nutone Company, Hartford, Wisconsin.

The petitioner has requested that the petition be withdrawn. Consequently, the investigation has been terminated.

Signed at Washington, DC, this 20th day of March 2009.
Richard Church,
Certifying Officer, Division of Trade Adjustment Assistance.

[FR Doc. E9-8295 Filed 4-10-09; 8:45 am]

BILLING CODE 4510-FN-P